SECURITIES AND EXCHANGE COMMISSION

Submission for OMB Review; Comment Request

Upon Written Request, Copies Available From: Securities and Exchange Commission, Office of FOIA Services, 100 F Street NE, Washington, DC 20549-2736

Extension:

Form N-8B-2; SEC File No. 270-186, OMB Control No. 3235-0186

Notice is hereby given that, pursuant to the Paperwork Reduction Act of 1995 (44 U.S.C. 3501 et seq.), the Securities and Exchange Commission (the “Commission”) has submitted to the Office of Management and Budget a request for extension of the previously approved collection of information discussed below.

Form N-8B-2 (17 CFR 274.12) is the form used by unit investment trusts (“UITs”) other than separate accounts that are currently issuing securities, including UITs that are issuers of periodic payment plan certificates and UITs of which a management investment company is the sponsor or depositor, to comply with the filing and disclosure requirements imposed by section 8(b) of the Investment Company Act of 1940 (15 U.S.C. 80a-8(b)). Form N-8B-2 requires disclosure about the organization of a UIT, its securities, the personnel and affiliated persons of the depositor, the distribution and redemption of securities, the trustee or custodian, and financial statements. The Commission uses the information provided in the collection of information to determine compliance with section 8(b) of the Investment Company Act.

Each registrant subject to the Form N-8B-2 filing requirement files Form N-8B-2 for its initial filing and does not file post-effective amendments on Form N-8B-2.¹ The Commission staff estimates that approximately one respondent files one Form N-8B-2 filing annually with the Commission.² Staff estimates that the burden for compliance with Form N-8B-2 is approximately 10 hours per filing. The total hour burden for the Form N-8B-2 filing requirement therefore is 10 hours in the aggregate (1 respondent × one filing per respondent × 10 hours per filing).

¹ Post-effective amendments are filed with the Commission on the UIT's Form S-6. Hence, respondents only file Form N-8B-2 for their initial registration statement and not for post-effective amendments.

² In 2015 the Commission received 3 filings, while in 2016 and 2017, the Commission received 0 filings, respectively. The cumulative 3-year average is, therefore, 1 filing per year.

Estimates of the burden hours are made solely for the purposes of the PRA and are not derived from a comprehensive or even a representative survey or study of the costs of SEC rules and forms. The information provided on Form N-8B-2 is mandatory. The information provided on Form N-8B-2 will not be kept confidential. An agency may not conduct or sponsor, and a person is not required to respond to, a collection of information unless it displays a currently valid OMB control number.

The public may view the background documentation for this information collection at the following website, www.reginfo.gov. Comments should be directed to: (i) Desk Officer for the Securities and Exchange Commission, Office of Information and Regulatory Affairs, Office of Management and Budget, Room 10102, New Executive Office Building, Washington, DC 20503, or by sending an email to: Shagufta_Ahmed@omb.eop.gov; and (ii) Charles Riddle, Acting Director/Chief Information Officer, Securities and Exchange Commission, c/o Candace Kenner, 100 F Street NE, Washington, DC 20549 or send an email to: PRA_Mailbox@sec.gov. Comments must be submitted to OMB within 30 days of this notice.

Dated: October 3, 2018.
Eduardo A. Aleman,
Assistant Secretary.

[FR Doc. 2018-21830 Filed 10-5-18; 8:45 am]

BILLING CODE 8011-01-P